DEPARTMENT OF TRANSPORTATION

Federal Aviation Administration

Notice of Availability of an Environmental Assessment (EA) and Finding of No Significant Impact (FONSI) Executed by the Federal Aviation Administration (FAA) for the Evaluation of Environmental Impacts Associated With a Proposed Corporate Hangar Construction at Cincinnati Municipal Airport-Lunken Field, Located in Cincinnati, OH

AGENCY: Federal Aviation Administration, Department of Transportation.

ACTION: Notice of availability of an EA and FONSI executed by the FAA for the evaluation of environmental impacts associated with a proposed corporate hangar construction at Cincinnati Municipal Airport-Lunken Field, located in Cincinnati, Ohio.

SUMMARY: The FAA is making available an EA and FONSI for the evaluation of environmental impacts associated with a proposed corporate hangar construction at Cincinnati Municipal Airport-Lunken Field, located in Cincinnati, Ohio.

Point of Contact: Mr. Brad Davidson, Environmental Protection Specialist, FAA Great Lakes Region, Detroit Airports District Office, 11677 South Wayne Road, Suite 107, Romulus, MI 48174, (734) 229-2900.

SUPPLEMENTARY INFORMATION: The FAA is making available an EA and FONSI for the evaluation of environmental impacts associated with a proposed corporate hangar construction at Cincinnati Municipal Airport-Lunken Field, located in Cincinnati, Ohio. The purpose of the EA and FONSI was to evaluate potential environmental impacts arising from the proposed airport improvement project involving the construction of a corporate hangar on airport owned land.

These documents will be available during normal business hours at the following location: FAA Detroit Airports District Office, 11677 South Wayne Road, Suite 107, Romulus, MI 48174.

Due to current security requirements, arrangements must be made with the point of contact prior to visiting this office.

Issued in Romulus, Michigan, October 26, 2005.
Irene R. Porter,
Manager, Detroit Airport District Office, FAA, Great Lakes Region.

[FR Doc. 05-22652 Filed 11-15-05; 8:45 am]

BILLING CODE 4910-13-M